DEPARTMENT OF STATE

[Public Notice 5436]

Announcement of Meetings of the International Telecommunication Advisory Committee

SUMMARY: This notice announces an International Telecommunication Advisory Committee meeting to prepare for a meeting of the Organization of American States Inter-American Telecommunication Commission (CITEL) Conference Preparatory Committee.

The International Telecommunication Advisory Committee (ITAC) will meet to prepare for the July 10-12 meeting of the CITEL Conference Preparatory Committee in Costa Rica. The preparatory meeting will be held in the Washington, DC Metro area on July 6, 2006 2-4 p.m. The purpose of the meeting is to advise the Department of State on proposed Inter-American Positions to be taken by CITEL at the next International Telecommunication Union Plenipotentiary Conference. A conference bridge will be available for those outside the Washington Metro area.

The International Telecommunication Advisory Committee (ITAC) will meet to prepare for CITEL PCC.I (Telecommunication) on August 8 and 24, 2006 10 a.m.-noon in Washington, DC at a location to be determined.

These meetings are open to the public. Particulars on meeting location and times, and information on conference bridges is available from the secretariat minardje@state.gov, telephone 202-647-3234.

Dated: June 12, 2006.
Anne D. Jillson,
Foreign Affairs Officer, International Communications & Information Policy, Department of State.

[FR Doc. E6-9757 Filed 6-20-06; 8:45 am]

BILLING CODE 4710-07-P